DEPARTMENT OF HOMELAND SECURITY

Federal Emergency Management Agency

[Docket ID FEMA-2020-0002; Internal Agency Docket No. FEMA-B-2064]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Madison (19-04-3126P). | The Honorable Paul Finley, Mayor, City of Madison, 100 Hughes Road, Madison, AL 35758. | Engineering Department, 100 Hughes Road, Madison, AL 35758. | https://msc.fema.gov/portal/advanceSearch. | Oct. 13, 2020 | 010308
Colorado:
Boulder | City of Boulder (20-08-0376P). | The Honorable Sam Weaver, Mayor, City of Boulder, P.O. Box 791, Boulder, CO 80306. | Central Records Department, 1777 Broadway, Boulder, CO 80306. | https://msc.fema.gov/portal/advanceSearch. | Jan. 7, 2021 | 080024
Boulder | Town of Jamestown (20-08-0179P). | The Honorable Tara Schoedinger, Mayor, Town of Jamestown, P.O. Box 298, Jamestown, CO 80455. | Town Hall, 118 Main Street, Jamestown, CO 80455. | https://msc.fema.gov/portal/advanceSearch. | Jan. 11, 2021 | 080216
Florida:
Collier | City of Naples (20-04-3512P). | The Honorable Teresa Heitmann, Mayor, City of Naples, 735 8th Street South, 2nd Floor, Naples, FL 34102. | Building Department, 295 Riverside Circle, Naples, FL 34102. | https://msc.fema.gov/portal/advanceSearch. | Jan. 19, 2021 | 125130
Lee | Town of Fort Myers Beach (20-04-2530P). | The Honorable Ray Murphy, Mayor, Town of Fort Myers Beach, 2525 Estero Boulevard, Fort Myers Beach, FL 33931. | Community Development Department, 2525 Estero Boulevard, Fort Myers Beach, FL 33931. | https://msc.fema.gov/portal/advanceSearch. | Dec. 24, 2020 | 120673
Monroe | Unincorporated areas of Monroe County (20-04-3334P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Jan. 4, 2021 | 125129
Palm Beach | City of Westlake (20-04-1257P). | The Honorable Roger Manning, Mayor, City of Westlake, 4001 Seminole Pratt Whitney Road, Westlake, FL 33470. | City Hall, 4001 Seminole Pratt Whitney Road, Westlake, FL 33470. | https://msc.fema.gov/portal/advanceSearch. | Dec. 29, 2020 | 120018
Georgia:
Mitchell | Unincorporated areas of Mitchell County (20-04-3145P). | The Honorable Benjamin Hayward, Chairman, Mitchell County Board of Commissioners, 26 North Court Street, Camilla, GA 31730. | Mitchell County Building and Zoning Department, 26 North Court Street, Camilla, GA 31730. | https://msc.fema.gov/portal/advanceSearch. | Jan. 7, 2021 | 130438
Oconee | City of Watkinsville (19-04-6350P). | The Honorable Bob Smith, Mayor, City of Watkinsville, 191 VFW Drive, Watkinsville, GA 30677. | City Hall, 191 VFW Drive, Watkinsville, GA 30677. | https://msc.fema.gov/portal/advanceSearch. | Jan. 8, 2021 | 130369
North Carolina: Brunswick | Unincorporated areas of Brunswick County (20-04-4291P). | The Honorable Frank Williams, Chairman, Brunswick County Board of Commissioners, P.O. Box 249, Bolivia, NC 28422. | Brunswick County Department of Floodplain Management Department, 75 Courthouse Drive, Building 1, Bolivia, NC 28422. | https://msc.fema.gov/portal/advanceSearch. | Jan. 4, 2021 | 370295
South Carolina:
Berkeley | Unincorporated areas of Berkeley County (19-04-6176P). | The Honorable Johnny Cribb, Chairman, Berkeley County Council, 1003 Highway 52, Moncks Corner, SC 29461. | Berkeley County Administration Building, 1003 Highway 52, Moncks Corner, SC 29461. | https://msc.fema.gov/portal/advanceSearch. | Dec. 31, 2020 | 450029
Lexington | Unincorporated areas of Lexington County (20-04-1249P). | The Honorable Scott Whetstone, Chairman, Lexington County Council, 212 South Lake Drive, Suite 601, Lexington, SC 29072. | Lexington County Community Development Department, 212 South Lake Drive, Suite 601, Lexington, SC 29072. | https://msc.fema.gov/portal/advanceSearch. | Jan. 22, 2021 | 450129
Texas:
Bexar | City of San Antonio (20-06-2465P). | The Honorable Ron Nirenberg, Mayor, City of San Antonio, P.O. Box 839966, San Antonio, TX 78283. | Transportation and Capitol Improvements Department, Storm Water Division, 114 West Commerce Street, 7th Floor, San Antonio, TX 78205. | https://msc.fema.gov/portal/advanceSearch. | Dec. 28, 2020 | 480045
Bexar | Unincorporated areas of Bexar County (19-06-3962P). | The Honorable Nelson W. Wolff, Bexar County Judge, 101 West Nueva Street, 10th Floor, San Antonio, TX 78205. | Bexar County Public Works Department, 1948 Probandt Street, San Antonio, TX 78214. | https://msc.fema.gov/portal/advanceSearch. | Dec. 28, 2020 | 480035
Bexar | Unincorporated areas of Bexar County (20-06-0078P). | The Honorable Nelson W. Wolff, Bexar County Judge, 101 West Nueva Street, 10th Floor, San Antonio, TX 78205. | Bexar County Public Works Department, 1948 Probandt Street, San Antonio, TX 78214. | https://msc.fema.gov/portal/advanceSearch. | Dec. 28, 2020 | 480035
Bexar | Unincorporated areas of Bexar County (20-06-2465P). | The Honorable Nelson W. Wolff, Bexar County Judge, 101 West Nueva Street, 10th Floor, San Antonio, TX 78205. | Bexar County Public Works Department, 1948 Probandt Street, San Antonio, TX 78214. | https://msc.fema.gov/portal/advanceSearch. | Dec. 28, 2020 | 480035
Collin and Dallas | City of Sachse (20-06-1068P). | Ms. Gina Nash, Manager, City of Sachse, 3815 Sachse Road, Building B, Sachse, TX 75048. | Engineering Department, 3815 Sachse Road, Building B, Sachse, TX 75048. | https://msc.fema.gov/portal/advanceSearch. | Jan. 8, 2021 | 480186
Ellis | City of Midlothian (20-06-1890P). | The Honorable Richard Reno, Mayor, City of Midlothian, 104 West Avenue E, Midlothian, TX 76065. | City Hall, 104 West Avenue E, Midlothian, TX 76065. | https://msc.fema.gov/portal/advanceSearch. | Jan. 15, 2021 | 480801
Ellis | Unincorporated areas of Ellis County (20-06-1084P). | The Honorable Todd Little, Ellis County Judge, 101 West Main Street, Waxahachie, TX 75165. | Ellis County Engineering Department, 109 South Jackson Street, Waxahachie, TX 75165. | https://msc.fema.gov/portal/advanceSearch. | Jan. 4, 2021 | 480798
Guadalupe | City of Cibolo (20-06-0736P). | Mr. Robert T. Herrera, Manager, City of Cibolo, 200 South Main Street, Cibolo, TX 78108. | Geographic Information Systems (GIS) Department, 200 South Main Street, Cibolo, TX 78108. | https://msc.fema.gov/portal/advanceSearch. | Jan. 7, 2021 | 480267
Guadalupe | City of Schertz (20-06-0736P). | Mr. Mark Browne, Manager, City of Schertz, 1400 Schertz Parkway, Schertz, TX 78154. | Geographic Information Systems (GIS) Department, 10 Commercial Place, Schertz, TX 78154. | https://msc.fema.gov/portal/advanceSearch. | Jan. 7, 2021 | 480269
Harris | Unincorporated areas of Harris County (20-06-2070P). | The Honorable Lina Hidalgo, Harris County Judge, 1001 Preston Street, Suite 911, Houston, TX 77002. | Harris County Permit Office, 10555 Northwest Freeway, Suite 120, Houston, TX 77092. | https://msc.fema.gov/portal/advanceSearch. | Dec. 28, 2020 | 480287
Johnson | City of Venus (20-06-1084P). | The Honorable James L. Burgess, Mayor, City of Venus, 700 West Highway 67, Venus, TX 76084. | Public Works and Water/Sewer Department, 700 West Highway 67, Venus, TX 76084. | https://msc.fema.gov/portal/advanceSearch. | Jan. 4, 2021 | 480883
Midland | City of Midland (19-06-3886P). | The Honorable Patrick Payton, Mayor, City of Midland, 300 North Loraine Street, Midland, TX 79701. | City Hall, 300 North Loraine Street, Midland, TX 79701. | https://msc.fema.gov/portal/advanceSearch. | Dec. 29, 2020 | 480477
Tarrant | City of Fort Worth (20-06-1803P). | The Honorable Betsy Price, Mayor, City of Fort Worth, 200 Texas Street, Fort Worth, TX 76102. | Transportation and Public Works Department, Engineering Vault, 200 Texas Street, Fort Worth, TX 76102. | https://msc.fema.gov/portal/advanceSearch. | Jan. 25, 2021 | 480596
Utah:
Davis | City of Clearfield (20-08-0266P). | Mr. J.J. Allen, Manager, City of Clearfield, 55 South State Street, Clearfield, UT 84015. | City Hall, 55 South State Street, Clearfield, UT 84015. | https://msc.fema.gov/portal/advanceSearch. | Jan. 19, 2021 | 490041
Davis | City of Clearfield (20-08-0267P). | Mr. J.J. Allen, Manager, City of Clearfield, 55 South State Street, Clearfield, UT 84015. | City Hall, 55 South State Street, Clearfield, UT 84015. | https://msc.fema.gov/portal/advanceSearch. | Jan. 4, 2021 | 490041
Virginia: Loudoun | Unincorporated areas of Loudoun County (20-03-0748P). | Mr. Tim Hemstreet, Loudoun County Administrator, P.O. Box 7000, Leesburg, VA 20177. | Loudoun County Mapping and Geographic Information Department, 1 Harrison Street Southeast, Leesburg, VA 20175. | https://msc.fema.gov/portal/advanceSearch. | Dec. 28, 2020 | 510090

[FR Doc. 2020-23974 Filed 10-28-20; 8:45 am]

BILLING CODE 9110-12-P